DEPARTMENT OF COMMERCE

International Trade Administration

[C-122-858]

Certain Softwood Lumber Products From Canada: Preliminary Results and Partial Rescission of Countervailing Duty Administrative Review; 2022

AGENCY: Enforcement and Compliance, International Trade Administration, Department of Commerce.

SUMMARY: The U.S. Department of Commerce (Commerce) preliminarily determines that countervailable subsidies are being provided to producers and exporters of certain softwood lumber products (softwood lumber) from Canada during the period of review (POR), January 1, 2022, through December 31, 2022. With respect to four companies, we are rescinding this administrative review because the companies are excluded from the countervailing duty (CVD) order on softwood lumber from Canada. Additionally, with respect to 70 companies, we are rescinding this administrative review because either the request for review of the company was timely withdrawn or the company did not have any reviewable entries of subject merchandise during the POR. Interested parties are invited to comment on these preliminary results.

DATES: Applicable February 6, 2024.

FOR FURTHER INFORMATION CONTACT: Samuel Brummitt, Laura Griffith, and Kristen Johnson, AD/CVD Operations, Office III, Enforcement and Compliance, International Trade Administration, U.S. Department of Commerce, 1401 Constitution Avenue NW, Washington, DC 20230; telephone: (202) 482-7851, (202) 482-6430, and (202) 482-4793, respectively.

SUPPLEMENTARY INFORMATION:

Background

On January 3, 2018, Commerce published in the Federal Register the CVD order on softwood lumber from Canada.¹ Several interested parties requested that Commerce conduct an administrative review of the Order and, on March 14, 2023, Commerce published in the Federal Register a notice of initiation of the fifth administrative review.² On April 19, 2023, Commerce selected Canfor Corporation and West Fraser Mills Ltd. as the mandatory respondents in the administrative review.³ On September 22, 2023, Commerce selected J.D. Irving, Limited and Tolko Marketing and Sales Ltd. and Tolko Industries Ltd. (collectively, Tolko) as voluntary respondents in the administrative review.⁴

¹ See Certain Softwood Lumber Products from Canada: Amended Final Affirmative Countervailing Duty Determination and Countervailing Duty Order, 83 FR 347 (January 3, 2018) (Order).

² See Initiation of Antidumping and Countervailing Duty Administrative Reviews, 88 FR 15642 (March 14, 2023).

³ See Memorandum, “Respondent Selection,” dated April 19, 2023.

⁴ See Commerce's Letter, “Voluntary Respondents,” dated September 22, 2023.

On September 22, 2023, Commerce extended the deadline for the preliminary results of this administrative review to January 31, 2024, in accordance with 19 CFR 351.213(h)(2).⁵ For a complete description of the events that followed the initiation of this review, see the Preliminary Decision Memorandum.⁶ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Extension of Deadline for Preliminary Results of Countervailing Duty Administrative Review; 2022,” dated September 22, 2023.

⁶ See Memorandum, “Decision Memorandum for the Preliminary Results of Administrative Review of the Countervailing Duty Order on Certain Softwood Lumber Products from Canada; 2022,” dated concurrently with, and hereby adopted by, this notice (Preliminary Decision Memorandum).

Scope of the Order

The product covered by this order is certain softwood lumber products from Canada. For a complete description of the scope of the Order, see the Preliminary Decision Memorandum.

Partial Rescission of Administrative Review

On November 20, 2023, the U.S. Court of International Trade (CIT) issued an order in Committee Overseeing Action for Lumber International Trade Investigations or Negotiations v. United States, et. al., Consol. Ct. No. 19-00122 (Slip Op. 23-163), reinstating the exclusion of Les Produits Forestiers D&G Ltee (D&G), Marcel Lauzon Inc. (MLI), North American Forest Products Ltd. (NAFP) (located in New Brunswick), and Scierie Alexandre Lemay & Fils Inc. (Lemay), and their cross-owned companies,⁷ from the Order. On December 7, 2023, Commerce published in the Federal Register a notice of reinstatement of exclusion from the Order for these companies with an effective date of August 28, 2021.⁸ Consequently, D&G, MLI, NAFP (located in New Brunswick), and Lemay, along with their cross-owned companies, are not subject to this administrative review.

⁷ D&G's cross-owned companies are: Le Groupe Gesco-Star Ltee; Portbec Forest Products Ltd (aka Les Produits Forestiers Portbec Ltee); and Les Produits Forestiers Startrees Ltee. MLI's cross-owned companies are: Placements Marcel Lauzon Ltee and Investissements LRC Inc. NAFP's cross-owned companies are: Parent-Violette Gestion Ltee and Le Groupe Parent Ltee. Lemay's cross-owned companies are: Bois Lemay Inc. and Industrie Lemay Inc.

⁸ See Certain Softwood Lumber Products from Canada: Notice of Reinstatement of Exclusion from the Countervailing Duty Order, 88 FR 85225 (December 7, 2023).

Pursuant to 19 CFR 351.213(d)(1), Commerce will rescind an administrative review if the party that requested the review withdraws its request within 90 days of the publication of the notice of initiation of the requested review. On June 12, 2023, the petitioner ⁹ timely withdrew its request for administrative review of certain producers/exporters.¹⁰ With respect to 52 producers/exporters listed in the petitioner's withdrawal of review request, neither the producer/exporter itself, nor any other party, besides the petitioner, requested a review. Accordingly, we are rescinding this review, with respect to the following companies, pursuant to 19 CFR 351.213(d)(1):

⁹ The petitioner is the COALITION, an ad hoc association whose members are: U.S. Lumber Coalition, Inc.; Collum's Lumber Products, L.L.C.; Fox Lumber Sales, Inc.; Hankins, Inc.; Pleasant River Lumber Company; PotlatchDeltic; S.I. Storey Lumber Co., Inc.; Stimson Lumber Company; Swanson Group; Weyerhaeuser Company; Giustina Land and Timber Company; and Sullivan Forestry Consultants, Inc.

¹⁰ See Petitioner's Letter, “Withdrawal of Request for Administrative Review,” dated June 12, 2023.

1. 54 Reman

2. 9224-5737 Quebec Inc. (aka A.G. Bois)

3. AA Trading Ltd.

4. All American Forest Products Inc.

5. Anglo‐American Cedar Products, Ltd.

6. Bardobec Inc.

7. Best Quality Cedar Products Ltd.

8. Campbell River Shake & Shingle Co., Ltd.

9. Canada Pallet Corp.

10. Canasia Forest Industries Ltd.

11. Careau Bois Inc.

12. Cedar Island Forest Products Ltd.

13. Cedar Valley Holdings Ltd.

14. Cedarcoast Lumber Products

15. Coast Mountain Cedar Products Ltd

16. Comox Valley Shakes (2019) Ltd.

17. CWP—Montreal inc.

18. Direct Cedar Supplies Ltd.

19. Distribution Rioux Inc.

20. Elrod Cartage Ltd.

21. Goldband Shake & Shingle Ltd.

22. Groupe Lignarex Inc.

23. Imperial Cedar Products, Ltd.

24. Intertran Holdings Ltd. (dba Richmond Terminal)

25. Island Cedar Products Ltd

26. L'Atelier de Readaptation au travil de Beauce Inc.

27. Les Bardeaux Lajoie Inc.

28. Les Bois Traites M.G. Inc.

29. Modern Terminal Ltd.

30. Nagaard Sawmill Ltd.

31. NSC Lumber Ltd.

32. Pacific Coast Cedar Products Ltd

33. Pacific Pallet, Ltd.

34. Pat Power Forest Products Corporation

35. Prendiville Industries Ltd. (aka Kenora Forest Products)

36. Rick Dubois

37. Roland Boulanger & Cie Ltee; Industries Daveluyville Inc.; Les Manufacturiers Warwick Ltee

38. S&W Forest Products Ltd.

39. Sapphire Lumber Company

40. Sonora Logging Ltd.

41. Source Forest Products

42. South Fraser Container Terminals

43. Star Lumber Canada Ltd

44. Suncoh Custom Lumber Ltd.

45. Surplus G Rioux

46. Swiftwood Forest Products Ltd.

47. T&P Trucking Ltd.

48. Valley Cedar 2 Inc.

49. Watkins Sawmills Ltd.

50. Western Timber Products, Inc.

51. Winton Homes Ltd.

52. WWW Timber Products Ltd.

Additionally, pursuant to 19 CFR 351.213(d)(3), it is Commerce's practice to rescind an administrative review of a CVD order where it concludes that there were no reviewable entries of subject merchandise during the POR for an exporter or producer. Normally, upon completion of an administrative review, the suspended entries are liquidated at the CVD assessment rate for the review period.¹¹ Therefore, for an administrative review to be conducted, there must be a reviewable, suspended entry that Commerce can instruct U.S. Customs and Border Protection (CBP) to liquidate at the calculated CVD assessment rate for the review period.¹²

¹¹ See 19 CFR 351.212(b)(2).

¹² See 19 CFR 351.213(d)(3).

Based on our analysis of CBP data and comments received from interested parties, we determine that 18 producers/exporters, for which a review had been requested, had no reviewable shipments, sales, or entries of subject merchandise during the POR. Accordingly, absent evidence of a shipment on the record, Commerce is rescinding the administrative review of the following companies, pursuant to 19 CFR 351.213(d)(3):

1. Burrows Lumber (CD) Ltd.; Theo A. Burrows Lumber Company Limited

2. CarlWood Lumber Ltd.

3. Central Forest Products Inc.

4. Coast Clear Wood Ltd.

5. Glandell Enterprises Inc.

6. Les Produits Forestiers Sitka Inc. (aka Sitka Forest Products Inc.)

7. Madera Forest Products INC

8. Mainland Sawmill, a division of Terminal Forest Products Ltd.

9. Oregon Canadian Forest Products Inc., dba Oregon Canadian Forest Products

10. Pacific Lumber Remanufacturing Inc.

11. Partap Industries

12. Produits forestiers Temrex, s.e.c. (aka Temrex Forest Products LP)

13. Silvaris Corporation

14. Smart Wood Forest Products Ltd.

15. Smartlam LLC

16. Suncoast Industries Inc.

17. Tenryu Canada Corporation

18. Waldun Forest Product Sales Ltd.

For further information, see “Partial Rescission of Administrative Review” in the Preliminary Decision Memorandum.

Methodology

Commerce is conducting this CVD administrative review in accordance with section 751(a)(1)(A) of the Tariff Act of 1930, as amended (the Act). For each of the subsidy programs found countervailable, Commerce preliminarily determines that there is a subsidy, i.e., a financial contribution by an “authority” that confers a benefit to the recipient, and that the subsidy is specific.¹³ For a full description of the methodology underlying our preliminary conclusions, see the Preliminary Decision Memorandum. The list of topics discussed in the Preliminary Decision Memorandum is included in Appendix I.

¹³ See sections 771(5)(B) and (D) of the Act regarding financial contribution; section 771(5)(E) of the Act regarding benefit; and section 771(5A) of the Act regarding specificity.

Preliminary Rate for Non-Selected Companies Under Review

There are 232 companies for which a review was requested and not rescinded but were not selected as mandatory respondents. The statute and Commerce's regulations do not directly address the establishment of rates to be applied to companies not selected for individual examination where Commerce limits its examination in an administrative review pursuant to section 777A(e)(2) of the Act. However, Commerce normally determines the rates for non-selected companies in reviews in a manner that is consistent with section 705(c)(5) of the Act, which provides instructions for calculating the all-others rate in an investigation.

Section 705(c)(5)(A)(i) of the Act instructs Commerce, as a general rule, to calculate an all-others rate equal to the weighted average of the countervailable subsidy rates established for producers and/or exporters individually examined, excluding any zero, de minimis, or rates based entirely on facts available. In this review, none of the rates for the respondents were zero, de minimis, or based entirely on facts available. Therefore, for the POR, we are assigning to the non-selected companies an average of the subsidy rates calculated for the companies that were selected as respondents in the administrative review.

For further information on the calculation of the non-selected rate, see “Preliminary Ad Valorem Rate for Non-Selected Companies under Review” in the Preliminary Decision Memorandum. For a list of the non-selected companies, see Appendix II to this notice.

Preliminary Results of Review

For the period January 1, 2022, through December 31, 2022, we preliminarily determine the following estimated countervailable subsidy rates:

¹⁴ Commerce finds the following companies to be cross-owned with Canfor Corporation: Canadian Forest Products., Ltd. and Canfor Wood Products Marketing, Ltd.

¹⁵ Commerce finds the following companies to be cross-owned with J.D. Irving, Limited: Miramichi Timber Holdings Limited, The New Brunswick Railway Company, Rothesay Paper Holdings Ltd., and St. George Pulp & Paper Limited.

¹⁶ Commerce finds Meadow Lake OSB Mill Corp. and several holding companies, the identities of which are business proprietary, to be cross-owned with Tolko Marketing and Sales Ltd. and Tolko Industries Ltd.

¹⁷ Commerce finds the following companies to be cross-owned with West Fraser Mills Ltd.: Blue Ridge Lumber Inc., Manning Forest Products, Ltd., Sundre Forest Products Inc., Sunpine Inc., West Fraser Alberta Holdings, Ltd., and West Fraser Timber Co., Ltd.

Companies | Subsidy rate (percent ad valorem)
Canfor Corporation and its cross-owned affiliates ¹⁴ | 6.14
J.D. Irving, Limited and its cross-owned affiliates ¹⁵ | 3.88
Tolko Marketing and Sales Ltd. and Tolko Industries Ltd.¹⁶ | 9.61
West Fraser Mills Ltd. and its cross-owned affiliates ¹⁷ | 6.74
Non-Selected Companies | 6.71

Disclosure

We intend to disclose to parties to this proceeding the calculations performed in these preliminary results within five days of publication of this notice in the Federal Register in accordance with 19 CFR 351.224(b).¹⁸

¹⁸ See 19 CFR 351.224(b).

Public Comment

Pursuant to 19 CFR 351.309(c), interested parties may submit case briefs no later than 30 days after the date of publication of this notice. Rebuttal briefs, limited to issues raised in the case briefs, may be filed not later than five days after the date for filing case briefs.¹⁹ Interested parties who submit case briefs or rebuttal briefs in this proceeding must submit: (1) a table of contents listing each issue; and (2) a table of authorities.²⁰

¹⁹ See 19 CFR 351.309(d); see also Administrative Protective Order, Service, and Other Procedures in Antidumping and Countervailing Duty Proceedings, 88 FR 67069, 67077 (September 29, 2023) (APO and Final Service Rule).

²⁰ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.²¹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²²

²¹ We use the term “issue” here to describe an argument that Commerce would normally address in a comment of the Issues and Decision Memorandum.

²² See APO and Final Service Rule.

Pursuant to 19 CFR 351.310(c)(2), interested parties who wish to request a hearing, limited to issues raised in the case and rebuttal briefs, must do so within 30 days of publication of these preliminary results by submitting a written request to the Assistant Secretary for Enforcement and Compliance using ACCESS. Requests should contain the party's name, address, and telephone number; the number of participants; and a list of the issues to be discussed. If a request for a hearing is made, Commerce intends to hold the hearing at a time and date to be determined. Parties should confirm the date and time of the hearing two days before the scheduled date. Parties are reminded that all briefs and hearing requests must be filed electronically using ACCESS and received successfully in their entirety by 5:00 p.m. Eastern Time on the due date.

Final Results

Unless the deadline is extended pursuant to section 751(a)(3)(A) of the Act, Commerce intends to issue the final results of this administrative review, including the results of its analysis of the issues raised by parties in their comments, within 120 days after the date of publication of these preliminary results.

Assessment Rates

In accordance with 19 CFR 351.221(b)(4)(i), Commerce has preliminarily assigned the subsidy rates as indicated above. Pursuant to section 751(a)(2)(C) of the Act, upon issuance of the final results, Commerce shall determine, and CBP shall assess, countervailing duties on all appropriate entries covered by this review. Commerce intends to issue assessment instructions to CBP no earlier than 41 days after the date of publication of the final results of this review in the Federal Register, in accordance with 19 CFR 356.8(a). If a timely summons is filed at the CIT, the assessment instructions will direct CBP not to liquidate relevant entries until the time for parties to file a request for statutory injunction has expired (i.e., within 90 days of publication).

For the companies for which this review is rescinded,²³ Commerce will instruct CBP to assess countervailing duties on all appropriate entries at a rate equal to the cash deposit of estimated countervailing duties required at the time of entry, or withdrawal from warehouse, for consumption, during the period January 1, 2022, through December 31, 2022, in accordance with 19 CFR 351.212(c)(1)(i). Commerce intends to issue rescission instructions to CBP no earlier than 41 days after the date of publication of the notice of rescission in the Federal Register.

²³ For D&G, MLI, NAFP (located in New Brunswick), and Lemay, which are excluded from the Order, Commerce previously issued instructions to CBP discontinuing the suspension of liquidation of these companies' entries that were entered, or withdrawn from warehouse, for consumption on or after August 28, 2021. Thus, we do not intend to issue assessment instructions to CBP for these companies.

Cash Deposit Requirements

Pursuant to section 751(a)(1) of the Act, Commerce intends, upon publication of the final results, to instruct CBP to collect cash deposits of estimated countervailing duties in the amounts indicated above for each of the respective companies listed above and in Appendix II with regard to shipments of subject merchandise entered, or withdrawn from warehouse, for consumption on or after the date of publication of the final results of this review. For all non-reviewed companies, we will instruct CBP to collect cash deposits of estimated countervailing duties at the most recent company-specific or all-others rate applicable to the company, as appropriate. These cash deposit requirements, when imposed, shall remain in effect until further notice.

Notification to Interested Parties

These preliminary results are issued and published in accordance with sections 751(a)(1) and 777(i)(1) of the Act, and 19 CFR 351.221(b)(4).

Dated: January 31, 2024.
Abdelali Elouaradia,
Deputy Assistant Secretary for Enforcement and Compliance.

Appendix I

List of Topics Discussed in the Preliminary Decision Memorandum

I. Summary

II. Background

III. Period of Review

IV. Partial Rescission of Administrative Review

V. Scope of the Order

VI. New Subsidy Allegations

VII. Subsidies Valuation

VIII. Analysis of Programs

IX. Preliminary Ad Valorem Rate for Non-Selected Companies Under Review

X. Recommendation

Appendix II

1 0752615 B.C Ltd; Fraserview Remanufacturing Inc, DBA Fraserview Cedar Products

2 10104704 Manitoba Ltd O/A Woodstock Forest Products

3 1074712 BC Ltd. (Quadra Cedar)

4 5214875 Manitoba Ltd.

5 Absolute Lumber Products, Ltd.

6 Adwood Manufacturing Ltd.

7 AJ Forest Products Ltd.

8 Aler Forest Products, Ltd.

9 Alpa Lumber Mills Inc.

10 Andersen Pacific Forest Products Ltd.

11 Antrim Cedar Corporation

12 Aquila Cedar Products Ltd.

13 Arbec Lumber Inc. (aka Arbec Bois Doeuvre Inc.)

14 Aspen Pacific Industries Inc.

15 Aspen Planers Ltd.

16 B&L Forest Products Ltd.

17 B.B. Pallets Inc. (aka Les Palettes B.B. Inc.)

18 Babine Forest Products Limited

19 Bakerview Forest Products Inc.

20 Barrette-Chapais Ltee

21 BarretteWood Inc.

22 Benoit & Dionne Produits Forestiers Ltee (aka Benoit & Dionne Forest Products Ltd.)

23 Blanchet Multi Concept Inc.

24 Blanchette & Blanchette Inc.

25 Bois Aise de Montreal Inc.

26 Bois Bonsai Inc.

27 Bois D'oeuvre Cedrico Inc. (aka Cedrico Lumber Inc.)

28 Bois Daaquam inc. (aka Daaquam Lumber Inc.)

29 Bois et Solutions Marketing SPEC, Inc. (aka SPEC Wood & Marketing Solution or SPEC Wood and Marketing Solutions Inc.)

30 Bois Weedon Inc.

31 Boisaco Inc.

32 Boscus Canada Inc.

33 Boucher Bros. Lumber Ltd.

34 BPWood Ltd.

35 Bramwood Forest Inc.

36 Brink Forest Products Ltd.

37 Brunswick Valley Lumber Inc.

38 Busque & Laflamme Inc.

39 Canadian Bavarian Millwork & Lumber Ltd.

40 Canyon Lumber Company, Ltd.

41 Carrier & Begin Inc.

42 Carrier Forest Products Ltd.

43 Carrier Lumber Ltd.

44 Carter Forest Products Inc.

45 Cedarland Forest Products Ltd.

46 Cedarline Industries Ltd.

47 Central Alberta Pallet Supply

48 Central Cedar Ltd.

49 Centurion Lumber Ltd.

50 Chaleur Forest Products Inc.

51 Chaleur Forest Products LP

52 Channel-ex Trading Corporation

53 CHAP Alliance Inc.

54 Clair Industrial Development Corp. Ltd

55 Clermond Hamel Ltee

56 CLG Enterprises Inc.

57 CNH Products Inc.

58 Columbia River Shake & Shingle Ltd.; Teal Cedar Products Ltd., dba The Teal Jones Group

59 Commonwealth Plywood Co. Ltd.

60 Conifex Fibre Marketing Inc.

61 Coulson Manufacturing Ltd.

62 Cowichan Lumber Ltd.

63 CS Manufacturing Inc., dba Cedarshed

64 CWP Industriel Inc. (aka CWP—Industriel Inc.)

65 D & D Pallets Ltd.

66 Dakeryn Industries Ltd.

67 Decker Lake Forest Products Ltd.

68 Deep Cove Forest Products, Inc.

69 Delco Forest Products Ltd.

70 Delta Cedar Specialties Ltd.

71 Devon Lumber Co. Ltd.

72 DH Manufacturing Inc.

73 Doubletree Forest Products Ltd.

74 Downie Timber Ltd.

75 Dunkley Lumber Ltd.

76 EACOM Timber Corporation

77 East Fraser Fiber Co. Ltd.

78 Edgewood Forest Products Inc.

79 ER Probyn Export Ltd.

80 Falcon Lumber Ltd.

81 Fontaine Inc.; Gestion Natanis Inc.; Les Placements Jean-Paul Fontaine Ltee; Placements Nicolas Fontaine Inc.

82 Foothills Forest Products Inc.

83 Fort St. James Forest Products Limited Partnership

84 Fraser Specialty Products Ltd.

85 FraserWood Industries Ltd.

86 Furtado Forest Products Ltd.

87 Galloway Lumber Company Ltd.

88 Gilbert Smith Forest Products Ltd.

89 Goldwood Industries Ltd.

90 Goodfellow Inc.

91 Gorman Bros. Lumber Ltd.

92 Greendale Industries Inc.

93 GreenFirst Forest Products (QC) Inc.

94 Greenwell Resources Inc.

95 Griff Building Supplies Ltd.

96 Groupe Crete Chertsey Inc.

97 Groupe Crete Division St-Faustin Inc.

98 Groupe Lebel Inc.

99 H.J. Crabbe & Sons Ltd.

100 Haida Forest Products Ltd.

101 Halo Sawmill Manufacturing Limited Partnership

102 Hampton Tree Farms, LLC, dba Hampton Lumber Sales Canada

103 Hornepayne Lumber LP

104 Hudson Mitchell & Sons Lumber Inc.

105 Hy Mark Wood Products Inc.

106 Independent Building Materials Distribution Inc.

107 Interfor Corporation

108 Interfor Sales & Marketing Ltd.

109 Ivor Forest Products Ltd.

110 J&G Log Works Ltd.

111 J.H. Huscroft Ltd.

112 Jan Woodlands (2001) Inc.

113 Jasco Forest Products Ltd.

114 Jazz Forest Products Ltd.

115 Jhajj Lumber Corporation

116 Kalesnikoff Lumber Co. Ltd.

117 Kan Wood, Ltd.

118 Kebois Ltee/Ltd

119 Kelfor Industries Ltd.

120 Kermode Forest Products Ltd.

121 Keystone Timber Ltd.

122 La Crete Sawmills Ltd.

123 Lafontaine Lumber Inc.

124 Langevin Forest Products Inc.

125 Lecours Lumber Co. Limited

126 Leisure Lumber Ltd.

127 Les Bois d'oeuvre Beaudoin Gauthier Inc.

128 Les Bois Martek Lumber

129 Les Chantiers de Chibougamau Ltd./Ltee

130 Les Industries P.F. Inc.

131 Leslie Forest Products Ltd.

132 Lignum Forest Products LLP

133 Linwood Homes Ltd.

134 Lonestar Lumber lnc.

135 Lulumco Inc.

136 Magnum Forest Products, Ltd.

137 Maibec Inc.

138 Manitou Forest Products Ltd

139 Marwood Ltd.

140 Materiaux Blanchet Inc.

141 Metrie Canada Ltd.

142 Mid Valley Lumber Specialties Ltd.

143 Midway Lumber Mills Ltd.

144 Mill & Timber Products Ltd.

145 Millar Western Forest Products Ltd.

146 Mirax Lumber Products Ltd.

147 Mobilier Rustique (Beauce) Inc.; J.F.S.R. Inc.; Gestion C.A. Rancourt Inc.; Gestion J.F. Rancourt Inc.; Gestion Suzie Rancourt Inc.; Gestion P.H.Q. Inc.; 9331-3419 Quebec Inc.; 9331-3468 Quebec Inc.; SPQ Inc.

148 Monterra Lumber Mills Limited

149 Morwood Forest Products Inc.

150 Multicedre ltee

151 Murray Brothers Lumber Company Ltd

152 Nakina Lumber Inc.

153 National Forest Products Ltd.

154 Nicholson and Cates Ltd.

155 NorSask Forest Products Limited Partnership/NorSask Forest Products Inc.

156 North American Forest Products Ltd. (located in Abbotsford, British Columbia)

157 North Enderby Timber Ltd.

158 Northland Forest Products Ltd.

159 Oakwood Manufacturing, A Division of Weston Forest Products Inc.

160 Olympic Industries, Inc.; Olympic Industries ULC ²⁴

²⁴ On March 21, 2023, Olympic Industries, Inc. and Olympic Industries ULC (collectively, Olympic) notified Commerce that Olympic Industries Inc-Reman Code, Olympic Industries ULC-Reman, and Olympic Industries ULC-Reman Code are no longer used by Olympic to export softwood lumber to the United States. See Olympic's Letter, “Response to Department of Commerce's Clarification Request,” dated March 21, 2023.

161 Pacific NorthWest Lumber Ltd.

162 Pacific Western Wood Works Ltd.

163 PalletSource Inc.

164 Parallel Wood Products Ltd.

165 Partap Forest Products Ltd.

166 Peak Industries (Cranbrook) Ltd.

167 Phoenix Forest Products Inc.

168 Pine Ideas Ltd.

169 Pioneer Pallet & Lumber Ltd.

170 Porcupine Wood Products Ltd.

171 Power Wood Corp.

172 Precision Cedar Products Corp.

173 Produits Forestiers Petit Paris Inc.

174 Produits Matra Inc.; Sechoirs de Beauce Inc.; Bois Ouvre de Beauceville (1992), Inc.

175 Promobois G.D.S. Inc.

176 R.A. Green Lumber Ltd.

177 Rayonier A.M. Canada GP

178 Rembos Inc.

179 Rene Bernard inc.

180 Resolute FP Canada Inc.; 9192-8515 Quebec Inc.; Abitibi-Bowater Canada Inc.; Bowater Canadian Ltd.; Produits Forestiers Maurice SEC.; Resolute Forest Products Inc.

181 Rielly Industrial Lumber Inc.

182 River City Remanufacturing Inc.

183 S&R Sawmills Ltd.

184 San Group

185 San Industries Ltd.

186 Sawarne Lumber Co. Ltd.

187 Scierie St-Michel Inc.

188 Scierie West Brome Inc.

189 Scott Lumber Sales Ltd.

190 Shakertown Corp.

191 Sigurdson Forest Products Ltd.

192 Sinclar Group Forest Products Ltd.

193 Skana Forest Products Ltd.

194 Skeena Sawmills Ltd.

195 South Beach Trading Inc.

196 South Coast Reman Ltd.

197 Southcoast Millwork Ltd.

198 Specialiste du Bardeau de Cedre Inc. (aka SBC)

199 Spruceland Millworks Inc.

200 Sundher Timber Products Inc.

201 Surrey Cedar Ltd.

202 Taan Forest Limited Partnership (aka Taan Forest Products)

203 Taiga Building Products Ltd.

204 Tall Tree Lumber Company

205 Terminal Forest Products Ltd.

206 TG Wood Products

207 The Wood Source Inc.

208 Top Quality Lumber Ltd.

209 Trans-Pacific Trading Ltd.

210 Triad Forest Products Ltd.

211 Twin Rivers Paper Co. Inc.

212 Tyee Timber Products Ltd.

213 Universal Lumber Sales Ltd.

214 Usine Sartigan Inc.

215 Vaagen Fibre Canada, ULC

216 Vancouver Specialty Cedar Products Ltd.

217 Vanderhoof Specialty Wood Products Ltd.

218 Vanderwell Contractors (1971) Ltd.

219 Visscher Lumber Inc.

220 W.I. Woodtone Industries Inc.

221 West Bay Forest Products Ltd.

222 West Coast Panel Cutters

223 Western Forest Products Inc.

224 Western Lumber Sales Limited

225 Westminster Industries Ltd.

226 Weston Forest Products Inc.

227 Westrend Exteriors Inc.

228 Weyerhaeuser Co.

229 White River Forest Products L.P.

230 Woodline Forest Products Ltd.

231 Woodstock Forest Products

232 Woodtone Specialties Inc.

[FR Doc. 2024-02387 Filed 2-5-24; 8:45 am]

BILLING CODE 3510-DS-P